SMALL BUSINESS ADMINISTRATION

Regulatory Fairness Hearing; Region VIII—Salida, Colorado

AGENCY: U.S. Small Business Administration, SBA.

ACTION: Notice of open Hearing of Region VIII Small Business Owners in Salida, CO.

SUMMARY: The SBA, Office of the National Ombudsman is issuing this notice to announce the location, date and time of the Salida, CO Regulatory Fairness Hearing. This hearing is open to the public.

DATES: The hearing will be held on Wednesday, March 18, 2015, from 2:30 p.m. to 4:30 p.m. (MDT).

ADDRESSES: The hearing will be at the Administrative Offices for Chaffee County Colorado, 104 Crestone Avenue, 2nd Floor, Salida, CO 81201.

SUPPLEMENTARY INFORMATION: Pursuant to the Small Business Regulatory Enforcement Fairness Act (Pub. L. 104-121), Sec. 222, SBA announces the hearing for Small Business Owners, Business Organizations, Trade Associations, Chambers of Commerce and related organizations serving small business concerns to report experiences regarding unfair or excessive Federal regulatory enforcement issues affecting their members.

FOR FURTHER INFORMATION CONTACT: The hearing is open to the public; however, advance notice of attendance is requested. Anyone wishing to attend and/or make a presentation at the Salida, CO hearing must contact Dr. Alison Brown by March 11, 2015 in writing, by phone, or email in order to be placed on the agenda. For further information, please contact Dr. Alison Brown at NAVSYS Corporation, 14960 Woodcarver Road, Colorado Springs, CO 80921, by phone at (719) 481-4877, ext. 124, or email at Abrown@navsys.com. Additionally, if you need accommodations because of a disability, translation services, or require additional information, please contact José Méndez, Case Management Specialist at (202) 205-6178.

For more information on the Office of the National Ombudsman, see our Web site at www.sba.gov/ombudsman.

Dated: February 11, 2015.
Diana Doukas,
SBA Committee Management Officer.

[FR Doc. 2015-03809 Filed 2-24-15; 8:45 am]

BILLING CODE P